DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Bureau of Primary Health Care (BPHC) Uniform Data System (OMB Clearance No. 0915-0193)—Revision

The Uniform Data System (UDS) contains the annual reporting requirements for the cluster of primary care grantees funded by the Health Resources and Services Administration (HRSA). The UDS includes reporting requirements for grantees of the following primary care programs: Community Health Centers, Migrant Health Centers, Health Care for the Homeless, Public Housing Primary Care, and other grantees under Section 330. The authorizing statute is section 330 of the Public Health Service Act, as amended.

HRSA collects data in the UDS which are used to ensure compliance with legislative mandates and to report to Congress and policymakers on program accomplishments. To meet these objectives, BPHC requires a core set of data collected annually that is appropriate for monitoring and evaluating performance and reporting on annual trends. The UDS will be revised in several ways. Certain data elements are added for staffing and utilization and for diagnoses, services, and tests. Specifications for current clinical measures are revised to align with those of national standard setting organizations. Revenue sources are updated to include new federal revenue sources. A limited number of questions are asked about Electronic Health Record (EHR) reporting capabilities. Also, a limited number of clinical measures will be added consistent with identified national priorities. These new measures are included in the UDS data collection request in order to allow advance time for health centers to change data collection systems.

Estimates of Annualized Reporting Burden Are as Follows
Type of report | Number of respondents | Responses per respondent | Total responses | Hours per response | Total burden hours
Universal report | 1,181 | 1 | 1,181 | 71 | 83,851
Grant report | 328 | 1 | 328 | 18 | 5,904
Total | 1,181 |  | 1,509 |  | 89,755

Written comments and recommendations concerning the proposed information collection should be sent within 30 days of this notice to the desk officer for HRSA, either by e-mail to: OIRA_submission@omb.eop.gov or by fax to 202-395-6974. Please direct all correspondence to the “attention of the desk officer for HRSA.”

Dated: October 28, 2010.
Robert Hendricks,
Director, Division of Policy and Information Coordination.

[FR Doc. 2010-28091 Filed 11-5-10; 8:45 am]

BILLING CODE 4165-15-P